FEDERAL COMMUNICATIONS COMMISSION

47 CFR Part 73

[DA 00-1557; MM Docket No. 99-361; RM-9777; RM-9851]

Radio Broadcasting Services; Plainville and Larned, KS

AGENCY: Federal Communications Commission.

ACTION: Final rule.

SUMMARY: In response to a petition for rule making filed on behalf of Radio, Inc., licensee of Station KFIX, Plainville, Kansas, this document substitutes Channel 245C1 for Channel 244A at Plainville and modifies the license issued to Radio, Inc., as requested. (See Supplementary Information, infra.) Additionally, to accommodate the modification at Plainville, this document also substitutes Channel 255C3 for previously proposed Channel 255A at Larned, as counterproposed by Goodstar Broadcasting of Kansas, L.L.C. (“Goodstar”), licensee of Station KGTR, Channel 244A, Larned, Kansas, and modifies its license accordingly. See 65 FR 3407, January 21, 2000. Coordinates used for Channel 245C1 at Plainville, Kansas, are 39-01-15 NL and 99-28-12 WL. Coordinates used for Channel 255C3 at Larned, Kansas, are 38-09-54 NL and 99-06-05 WL.

DATES: Effective August 28, 2000.

ADDRESSES: Federal Communications Commission, Washington, D.C. 20554.

FOR FURTHER INFORMATION CONTACT: Nancy Joyner, Mass Media Bureau, (202) 418-2180.

SUPPLEMENTARY INFORMATION: This is a synopsis of the Commission's Report and Order, MM Docket No. 99-361, adopted July 5, 2000, and released July 14, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Channel 245C2 was substituted for Channel 244A at Plainville pursuant to grant of a one-step application on August 7, 1998, and the authorization for Station KFIX was modified accordingly (File No. BLH-19980509KC). However, the Table of Allotments was never amended to reflect the substitution of Channel 245C2 for Channel 244A at Plainville.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Kansas, is amended by removing Channel 244A and adding Channel 255C3 at Larned;

3. Section 73.202(b), the Table of FM Allotments under Kansas, is amended by removing Channel 244A and adding Channel 245C1 at Plainville.

Federal Communications Commission.
John A. Karousos,
Chief, Allocations Branch, Policy and Rules Division, Mass Media Bureau.

[FR Doc. 00-19085 Filed 7-27-00; 8:45 am]

BILLING CODE 6712-01-P